Proclamation 8636 of March 4, 2011

150th Anniversary of the Inauguration of Abraham Lincoln

By the President of the United States of America

A Proclamation

President Abraham Lincoln is revered in American history as the leader who held together a fractured country and liberated millions from slavery. His words are memorized by America’s schoolchildren, and his name is synonymous with freedom and unity. One hundred fifty years ago, on March 4, 1861, this self-taught man, rugged rail-splitter, and humble lawyer from Springfield, Illinois, was sworn in as our Nation’s 16th President under an unfinished dome of the United States Capitol, with the storm clouds of civil war gathering.

President Lincoln reminded us in his Inaugural Address that America’s Union was much older than the Constitution itself, and that our national fabric had been stitched together by shared memories and common hopes. As we observe the 150th anniversary of his Inauguration, we reflect on his unceasing belief and our enduring faith that we remain one Nation and one people, sharing a bond as Americans that will never break.

Through simple eloquence and humble leadership marked by profound wisdom—both on his Inauguration day and throughout the coming conflict—President Lincoln charted a course to transcend our discord and bind the wounds of a severed country. From the principles he set forth in the Emancipation Proclamation to his transformative address on the fields of Gettysburg, President Lincoln showed us how to preserve and perfect “the last, best hope of Earth.” His actions and his memory enabled America to move beyond a young collection of States to become a free and unified Nation, striving for the promises and principles for which so many fought and died.

Our revered 16th President taught us that we are more than North and South, black and white—we are one, and we are all Americans. The forces that divide us are not stronger than the forces that unite us, and the “new birth of freedom” President Lincoln called for still echoes in each of our hearts. Today, we live in the Union he saved, inheritors of the freedoms and progress for which he served. Through the ages, Abraham Lincoln calls us to take a renewed devotion to the unfinished work remaining before our Nation—joining together across all divides to ensure that “government of the people, by the people, for the people” endures in our time.

NOW, THEREFORE, I, BARACK OBAMA, President of the United States of America, by virtue of the authority vested in me by the Constitution and the laws of the United States, do hereby proclaim March 4, 2011, as a day to celebrate the 150th Anniversary of the Inauguration of Abraham Lincoln. I call upon all Americans to observe this day with appropriate programs, ceremonies, and activities that honor his memory and uphold the principles he so nobly advanced.

IN WITNESS WHEREOF, I have hereunto set my hand this fourth day of March, in the year of our Lord two thousand eleven, and of the Independence of the United States of America the two hundred and thirty-fifth.

[FR Doc. 2011-5550

Filed 3-8-11; 8:45 am]

Billing code 3195-W1-P